DEPARTMENT OF COMMERCE

Membership of the Departmental Performance Review Board

AGENCY: Department of Commerce.

ACTION: Notice of membership on the Departmental Performance Review Board.

SUMMARY: In accordance with statutes on ratings for performance appraisals, the Department of Commerce (DOC), announces the appointment of those individuals who have been selected to serve as members of the Departmental Performance Review Board. The Performance Review Board is responsible for reviewing performance appraisals and ratings of Senior Executive Service (SES) members and making recommendations to the appointing authority on other performance management issues, such as pay adjustments, bonuses and Presidential Rank Awards. The appointment of these members to the Performance Review Board will be for a period of twenty-four (24) months.

DATES: The period of appointment for those individuals selected for the Departmental Performance Review Board begins on October 3, 2016.

FOR FURTHER INFORMATION CONTACT: Nancy Osborn, U.S. Department of Commerce, Office of Human Resources Management, Office of Executive Resources, 14th and Constitution Avenue NW., Room 51010, Washington, DC 20230, at (202) 482-5815.

SUPPLEMENTARY INFORMATION: In accordance with Ratings for Performance Appraisals, 5 U.S.C. 4314(c)(4), the Department of Commerce (DOC), announces the appointment of those individuals who have been selected to serve as members of the Departmental Performance Review Board. The Performance Review Board is responsible for (1) reviewing performance appraisals and ratings of Senior Executive Service (SES) members and (2) making recommendations to the appointing authority on other performance management issues, such as pay adjustments, bonuses and Presidential Rank Awards. The appointment of these members to the Performance Review Board will be for a period of twenty-four (24) months.

The name, position title, and type of appointment of each member of the Performance Review Board are set forth below:

1. Jon Alexander, Deputy Director, Financial Management Systems, Career SES

2. Dennis Alvord, Senior Advisor for Policy and Program Integration, Career SES

3. Stephen Burke, Chief Financial Officer and Director for Administration, Career SES

4. Kathleen James, Chief Administrative Officer, Career SES

5. Lauren Leonard, Director of the Office of White House Liaison and Senior Advisor to the Secretary, Noncareer SES

6. Holly Vineyard, Deputy Assistant Secretary for Global Markets, Career SES

Dated: September 20, 2016.
Denise A. Yaag,
Director, Office of Executive Resources, Office of Human Resources Management, Office of the Secretary/Office of the CFO/ASA, Department of Commerce.

[FR Doc. 2016-23659 Filed 9-30-16; 8:45 am]

BILLING CODE 3510-25-P